DEPARTMENT OF EDUCATION

[CFDA No.: 84.351-C]

The Professional Development for Music Educators Program

AGENCY: Department of Education.

ACTION: Notice inviting applications for new awards for fiscal year (FY) 2001.

Purpose of Program: The Professional Development for Music Educators Program, funded under Subpart 1 of Part D of Title X of the Elementary and Secondary Education Act, makes grants to eligible entities for the development of high-quality professional development programs for K-12 music educators. Professional development model programs based upon innovative methodologies or best practices will be funded under this program.

Eligible Applicants: A local educational agency (LEA), acting on behalf of an individual school or schools where 75 percent or more of the children are from low-income families, based on the poverty criteria described in Title I Section 1113(a)(5) of the Elementary and Secondary Education Act, in collaboration with at least one of the following: (1) Institution of higher education; (2) State educational agency; or (3) public or private non-profit agency with a history of providing high-quality professional development services to public schools. Only schools where 75 percent or more of the children served are from low-income families may receive services under this program. Each school served through this program must submit evidence that it meets the poverty criteria. Applicants may submit records kept for the purpose of Title I of the ESEA that demonstrate proof of eligibility for each school to be served.

Note: The LEA must serve as the fiscal agent for the program.

Applications Available: June 20, 2001.

Applications Must be Received By: August 6, 2001.,

Deadline for Intergovernmental Review: September 4, 2001.

Available Funds: approximately $2,000,000.

Estimated Number of Awards: 7-10.

Estimated Size of Awards: $100,000—$250,000.

Average size of Awards: $200,000.

Note: These estimates are projections for the guidance of potential applicants. The Department is not bound by any estimates in this notice. The Administration is not requesting funding for this program in FY 2002.

Project Period: 12 months.

Applicable Regulations: The Education Department General Administrative Regulations (EDGAR) in 34 CFR parts 74, 75, 77, 79, 80, 81, 82, 85, 97, 98, and 99.

E-Mail Notification of Intent to Apply for Funding: The Department will be able to develop a more efficient process for reviewing grant applications if it has a better understanding of the number of entities that intend to apply for funding under this competition. Therefore, the Secretary strongly encourages each potential applicant to notify the Department by e-mail that it intends to submit an application for funding. The Secretary requests that this e-mail notification be sent no later than July 20, 2001. The e-mail notification should be sent to Ms. Madeline Baggett at madeline.baggett@ed.gov. Applicants that fail to provide this e-mail notification may still apply for funding.

SUPPLEMENTARY INFORMATION:

Background

Participation in music education programs fosters an appreciation of music, creativity in expression, and greater academic potential for all students. Recent studies have linked student participation in music programs to academic and potential academic benefits including:

(1) Improved scores on standardized tests; (2) improved math achievement; and (3) improved reading achievement.

Research has demonstrated a correlation between the development of musical ability and positive academic and behavioral changes. Students, especially middle and high school youth, are encouraged to express themselves through music education. Positive academic gains as well as increased self-confidence, motivation, and willingness to remain in school have been reported. In addition, students participating in band and orchestra have exhibited:

(1) Increased facility in non-verbal expression of ideas; (2) increased utilization of a variety of problem-solving skills; (3) greater success in collaborative learning environments; and (4) learning involving multiple intelligences.

While all students have musical ability, not all students are able to develop fully their musical potential. Financially strapped school districts often cut or curtail arts education programs, including music programs. Professional development opportunities for teachers are generally inadequate as well. Support for high-quality professional development for music teachers would enable them to assist students, especially in high-poverty schools where funding deficits are most severe, in developing their musical talents and abilities and in potentially improving in other academic areas as well.

Program Purposes

The extent to which teachers have received substantial formal education in their field directly affects their effectiveness in the classroom. Research findings have established a clear connection between teacher qualifications and student performance. The fundamental characteristics of effective professional development are well documented, and studies continue to indicate that sustained, substantive teacher learning must take place if students are to learn to high standards. In addition, teachers must have sufficient time to absorb and apply new knowledge in their classrooms.

High-quality music education programs are integrally linked to the qualifications of the music educators. Students have a greater likelihood of success when their teachers are qualified music professionals whose ongoing professional development enables them to offer high-quality instruction linked to performance standards. While adequate staff, facilities, and equipment are important components of any successful music education program, teacher qualifications and continued professional growth opportunities are the factors that most directly affect student achievement.

Music content and achievement standards have been voluntarily adopted in many States throughout the country. Such standards help school districts to establish student performance standards based upon the unique needs of, and desired outcomes for, the students in their communities. The development and implementation of standards-based music programs enable music educators to assess and document the effectiveness of teaching strategies and materials in addition to student achievement. However, teachers often need professional development on how to implement music education standards for both music programs and programs designed to integrate music into other subject areas.

Further, high-quality professional development programs for music educators should address and strive to achieve: (1) Increased student learning and teacher effectiveness; (2) the development of strategies for meeting the needs of students who come from diverse cultural, linguistic, and socioeconomic backgrounds; (3) rigorous and sustained training activities; (4) the intellectual and leadership development of teachers; (5) increased content knowledge for music teachers; (6) the application of relevant innovations in technology in music instruction; and (7) increased opportunities for teachers to share and discuss new methodologies or teaching strategies with their peers.

At the end of the project period, EDGAR (34 CFR 75.590) requires each grantee to submit a final program report. The Department intends to utilize information from the final report to determine which professional development programs have the greatest potential for improving teacher expertise in, and ultimately student performance in, music education. The Department will disseminate information regarding successful teaching methodologies or best practices that are developed, enhanced, or expanded through this program to the music education community and to the public in general.

Waiver of Proposed Rulemaking

In accordance with the Administrative Procedure Act (5 U.S.C. 553), it is the practice of the Secretary to offer interested parties the opportunity to comment on proposed rules. Section 437(d)(1) of the General Education Provisions Act (GEPA), however, allows the Secretary to exempt rules governing the first competition under a new or substantially revised program authority (20 U.S.C. 1232(d)(1)). Funding was provided for this new initiative in the Fiscal Year 2001 Department of Education Appropriations Act, enacted in December of 2000. Because this competition is the first competition under the program, it therefore qualifies as a new competitive grants program. The Secretary, in accordance with section 437(d)(1) of GEPA has decided to forego public comment in order to ensure timely grant awards. These rules will apply to the FY 2001 grant competition only.

Coordination Requirement

A recipient of funds under this program shall, to the extent possible, coordinate projects assisted under this program with appropriate activities of public and private cultural agencies, institutions, and organizations, including museums, arts education associations, libraries, and theaters.

Absolute Priority

Under 34 CFR 75.105(c)(3), the Secretary gives an absolute priority to professional development programs designed for K-12 music teachers that focus on: (1) The development, enhancement, or expansion of standards-based music education programs; or (2) the integration of music instruction into other subject area content. Funded projects will address and strive to achieve all aspects of high-quality professional development programs as described under the Program Purposes section.

Under 34 CFR 75.105(c)(3), the Secretary will fund under this competition only applicants that meet the absolute priority.

General Requirements

The following requirements must be met for any application submitted under this program:

(a) The program narrative is limited to no more than 40 pages using the following standards: (1) Each “page” is 8.5″ × 11″ (on one side only) with one inch margins (top, bottom, and sides); and (2) Double space (no more than three lines per vertical inch) all text in the application narrative, including titles, headings, footnotes, quotations, and captions, as well as all text in the application narrative, including titles, headings, footnes, quotations, captions, as well as all text in charts, tables, figures, and graphs. The page limit applies to the narrative section only. However, all of the application narrative must be included in the narrative section. If the narrative section of an application exceeds the page limitation, the application will not be reviewed. (b) the projects funded under this priority must budget for a two-day Project Directors' meeting in Washington, DC.

Selection Criteria

The Secretary will use the following selection criteria in 34 CFR 75.210 to evaluate applications under this competition. The maximum score for each criterion is 100 points. The maximum score for each criterion is indicated in parenthesis with the criterion. The criteria are as follows:

(a) Significance (15 points)

(1) The Secretary considers the significance of the proposed project.

(2) In determining the significance of the proposed project, the Secretary considers the following factors:

(i) The extent to which the proposed project involves the development of promising new strategies that build on, or are alternatives to, existing strategies.

(ii) The potential replicability of the proposed project or strategies, including, as appropriate, the potential for implementation in a variety of settings.

(iii) The importance or magnitude of the results or outcomes likely to be attained by the proposed project, especially improvements in teaching and student achievement.

(b) Quality of the Project Design (20 Points)

(1) The Secretary considers the quality of the project design of the proposed project.

(2) In determining the quality of the project design, the Secretary considers the following factors:

(i) The extent to which the proposed project represents an exceptional approach for meeting the priority established for the competition.

(ii) The extent to which the goals, objectives, and outcomes to be achieved by the proposed project are clearly specified and measurable.

(iii) The quality of the methodology to be employed in the proposed project.

(c) Quality of Project Services 20 Points)

(1) The Secretary considers the quality of project services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project reflect up-to-date knowledge from research and effective practices.

(ii) The extent to which the professional development services to be provided by the proposed project are of sufficient quality, intensity, and duration to lead to improvements in practice among the recipients of those services.

(d) Quality of Project Personnel (10 points)

(1) The Secretary considers the quality of the personnel who will carry out the proposed project.

(2) In determining the quality of project personnel, the Secretary considers the extent to which the applicant encourages applications for employment from persons who are members of groups that have traditionally been under represented based on race, color, national origin, gender, age, or disability.

(3) In addition, the Secretary considers the following factors:

(i) The qualifications, including relevant training and experience, of the project director;

(ii) The qualifications, including relevant training and experience, of key project personnel.

(iii) The qualification, including relevant training and experience, of project consultants or subcontractors.

(e) Adequacy of Resources (10 points)

(1) The Secretary considers the adequacy of resources for the proposed project.

(2) In determining the adequacy of resources for the proposed project, the Secretary considers the following factors:

(i) The adequacy of support, including facilities, equipment, supplies, and other resources, from the lead applicant organization.

(ii) The extent to which the costs are reasonable in relation to the number of persons to be served and to the anticipated results and benefits.

(iii) The potential for incorporation of project purposes, activities or benefits into the ongoing program of the agencies or organizations involved in the project at the end of Federal funding.

(f) Quality of the Management Plan (10 points)

(1) The Secretary considers the quality of the management plan for the proposed project.

(2) In determining the quality of the management plan for the proposed project, the Secretary considers the following factors:

(i) The adequacy of the management plan to achieve the objectives of the proposed project on time and within budget, including clearly defined responsibilities, time lines, and milestones for accomplishing project tasks.

(ii) The adequacy of procedures for ensuring continuous feedback and continuous improvement in the operation of the proposed project.

(iii) The extent to which the time commitments of the project director and other key project personnel are appropriate and adequate to meet the objectives of the proposed project.

(g) Quality of the Project Evaluation (15 points)

(1) The Secretary considers the quality of the project evaluation.

(2) In determining the quality of the project evaluation, the Secretary considers the following factors:

(i) The extent to which the methods of evaluation include objective performance measures that are clearly related to the intended outcomes of the project and will produce quantitative and qualitative data to the extent possible.

(ii) The extent to which the evaluation will provide guidance about effective strategies suitable for replication or testing in other settings.

For Applications or Information Contact

Madeline E. Baggett, U.S. Department of Education, 400 Maryland Avenue, SW., Washington, DC 20202-6140. Telephone (202) 260-2502. Individuals who use a telecommunications device for the deaf (TDD) may call the Federal Information Relay Service (FIRS) at 1-800-877-8339.

Individuals with disabilities may obtain this document in an alternative format (e.g., Braille, large print, audiotape, or computer diskette) on request to the contact person listed in the preceding paragraph.

Individuals with disabilities may obtain a copy of the application package in an alternative format also by contacting that person. However, the Department is not able to reproduce in an alternative format the standards forms included in the application package.

Electronic Access to this Document

You may view this document, as well as all other Department of Education documents published in the Federal Register, in text or Adobe Portable Document Format (PDF) on the Internet at the following site: www.ed.gov/legislation/FedRegister.

To use PDF you must have Adobe Acrobat Reader, which is available free at this site. If you have questions about using the PDF, call the U.S. Government Printing Office (GPO) toll free at 1-888-293-6498, or in the Washington, DC area at 202-512-1530.

Note: The official version of this document is the document published in the Federal Register. Free Internet access to the official edition of the Federal Register and the Code of Federal Regulations is available on GPO Access at: Http://www.access.gpo.gov/nara/index.html.

Program Authority: 20 U.S.C. 8091.

Dated: June 14, 2001.
Thomas M. Corwin,
Acting Deputy Assistant Secretary for Elementary and Secondary Education.

[FR Doc. 01-15556 Filed 6-19-01; 8:45 am]

BILLING CODE 4000-01-U